DEPARTMENT OF THE TREASURY

Internal Revenue Service

26 CFR Parts 1, 301 and 602

[TD 9100]

RIN 1545-BC62

Guidance Necessary to Facilitate Business Electronic Filing; Correction

AGENCY: Internal Revenue Service (IRS), Treasury.

ACTION: Correction to final and temporary regulations.

SUMMARY: This document contains corrections to final regulations (TD 9100), which were published in the Federal Register on Friday, December 19, 2003 (68 FR 70701), relating to the elimination of regulatory impediments to the electronic filing of certain business income tax returns and other forms.

DATES: These corrections are effective December 19, 2003.

FOR FURTHER INFORMATION CONTACT: Nathan Rosen at (202) 622-4910 (not a toll-free number).

SUPPLEMENTARY INFORMATION:

Background

The final regulations that are subject to these corrections are under section 170A of the Internal Revenue Code.

Need for Correction

As published, final regulation (TD 9100), contains errors that may prove to be misleading and are in need of clarification.

Correction of Publication

Accordingly, the publication of final regulation (TD 9100), which was the subject of FR Doc. 03-31238, is corrected as follows:

PART 1—INCOME TAXES

1. On page 70701, column 1, in the preamble under the caption DATES:, line 5 of section titled, Applicability Date:, the language “2T 1.565-1T, 1.936-7T, 1.1017-1T,” is corrected to read “2T, 1.565-1T, 1.936-7T, 1.1017-1T,”.

§ 1.556-2T [Corrected]

2. On page 70705, column 1, paragraph (e)(2)(viii) through (xi), line 2, the language “further guidance see § 1.556-2(e)(2)(viii)” is corrected to read “further guidance, see § 1.556-2(e)(2)(viii)”.

§ 1.1017-1 [Corrected]

3. On page 70706, column 1, paragraph (B), line 1, the language “[Reserved] For further guidance,” is corrected to read “[Reserved]. For further guidance,”.

§ 1.1377-1T [Corrected]

4. On page 70706, column 3, instructional paragraph Par. 16., line 2, the language “by revising paragraphs (b)(2)(iii), (b)(3)(i)” is corrected to read “by revising paragraphs (b)(3)(i)”.

§ 1.1502-21 [Corrected]

5. On page 70706, column 3, § 1.1502-21 is corrected by removing paragraphs (2) and (iii), and the five asterisks following paragraph (iii).

6. On page 70706, column 3, instructional paragraph Par. 17., line 3, the language “(b)(2)(iii) and (b)(3) through (b)(3)(ii)(B)” is corrected to read “(b)(3) through (b)(3)(ii)(B)”.

§ 1.1502-21T [Corrected]

7. On page 70706, column 3, § 1.1502-21T is corrected by removing paragraph (b)(2)(iii) and the five asterisks following the paragraph.

§ 1.6038B-1T [Corrected]

8. On page 70708, column 3, paragraph (b)(1)(i), line 3 from the top of the paragraph, the language “information to Form 926, “Return by” is corrected to read “information to Form 926, “Return by a U.S.”.

PART 301—PROCEDURE AND ADMINISTRATION

9. On page 70709, column 1, instructional paragraph Par. 24., line 2, the language “301 continues to read as follows:” is corrected to read “301 continues to read in part as follows:”.

10. On page 70709, column 1, instructional paragraph Par. 24., the Authority citation, the language “Authority: 26 U.S.C. 7805.” is corrected to read “Authority: 26 U.S.C. 7805 * * *.”

PART 602—OMB CONTROL NUMBERS UNDER THE PAPERWORK REDUCTION ACT

11. On page 70709, column 2, instructional paragraph Par. 27., line 2, the language “602 continues to read in part as follows:” is corrected to read “602 continues to read as follows:”.

12. On page 70709, column 2, instructional paragraph Par. 27., the Authority citation, the language “Authority: 26 U.S.C. 7805 * * *” is corrected to read “Authority: 26 U.S.C. 7805.”.

Cynthia E. Grigsby,
Acting Chief, Publications & Regulations Branch, Legal Processing Division, Associate Chief Counsel (Procedures & Administration).

[FR Doc. 04-2078 Filed 2-2-04; 8:45 am]

BILLING CODE 4830-01-P